FEDERAL COMMUNICATIONS COMMISSION

Public Information Collections Approved by Office of Management and Budget

October 16, 2007.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Thomas Butler, Federal Communications Commission, (202) 418-1492 or via the Internet at Thomas.butler@fcc.gov.

SUPPLEMENTARY INFORMATION: OMB Control No.: 3060-0807.

OMB Approval Date: 9/27/2007.

Expiration Date: 09/30/2010.

Title: Section 51.803 and Supplemental Procedures for Petitions Pursuant to Section 252(e)(5) of the Communications Act of 1934, as amended.

Form No.: N/A.

Estimated Annual Burden: 60 responses; 1,600 total annual hours; 20 hours per respondent.

Needs and Uses: This collection was approved as an extension to an existing collection with adjustments to the number of respondents and burden hours to reflect the most current information available. Any interested party seeking preemption of a state commission's jurisdiction based on the state commission's failure to act shall notify the Commission (47 U.S.C. 252(e)(5) and 47 CFR 51.803). In a 1997 Public Notice the Commission set out procedures for filing petitions for preemption pursuant to section 252(e)(5). All the information will be used to ensure that section 252(e)(5) petitioners have complied with their obligations under the Communications Act of 1934, as amended.

OMB Control No.: 3060-0894.

OMB Approval Date: 9/27/2007.

Expiration Date: 09/30/2010.

Title: Certification Letter Accounting for Receipt of Federal Support and Rate Comparability Review and Certification (47 CFR 54.313 and 54.316).

Form No.: N/A.

Estimated Annual Burden: 103 responses; 315 total annual hours; 5 hours per response.

Needs and uses: This collection was approved as an extension to an existing collection with adjustments to the number of respondents and burden hours to reflect the most current information available. Each State that desires non-rural carriers within the state to receive federal high-cost support is required to certify that such carriers will use the support only for the provision, maintenance, and upgrading of facilities and services for which the support is intended. Each State also is required to provide information to the Commission regarding the comparability of residential rates in rural areas served by non-rural carriers within the state to urban rates nationwide. Pursuant to the certification process, each state is required to state whether its rates in rural areas served by non-rural carriers are reasonably comparable to urban rates nationwide and explain the basis for its conclusion as well as its proposed remedies, if necessary.

Federal Communications Commission.
Marlene H. Dortch,
Secretary.

[FR Doc. E7-20733 Filed 10-19-07; 8:45 am]

BILLING CODE 6712-01-P